GENERAL SERVICES ADMINISTRATION

[OMB Control No. 3090-0288; Docket 2010-0002, Sequence 16]

Agency Information Collection Activities; Proposed Collection; Comment Request; Open Government Citizen Engagement Ratings, Rankings, and Flagging; Information Collection; OMB Control No. 3090-0288

AGENCY: Office of Citizen Services, General Services Administration (GSA).

ACTION: Notice of a request for comments regarding an extension to an existing OMB information collection.

SUMMARY: In compliance with the Paperwork Reduction Act (PRA) (44 U.S.C. Chapter 35), this document announces that GSA is planning to submit a request to extend an Information Collection Request (ICR) to the Office of Management and Budget (OMB). Before submitting this ICR to OMB for review and approval, GSA is soliciting comments on specific aspects of the proposed information collection as described below.

DATES: Comments must be submitted on or before June 1, 2010.

ADDRESSES: Submit comments regarding this burden estimate or any other aspect of the collection of information, including suggestions for reducing this burden to Jonathan Rubin at jonathan.rubin@gsa.gov, or to the General Services Administration, Regulatory Secretariat (MVCB), 1800 F Street, NW., Room 4041, Washington, DC 20405. FAX number is 202-501-4067. Please cite OMB Control No. 3090-0288, Open Government Citizen Engagement Ratings, Rankings, and Flagging, in all correspondence.

FOR FURTHER INFORMATION CONTACT: Mr. Jonathan Rubin, General Services Administration, Office of Citizen Services, 1800 F Street, NW., Room G139, Washington, DC 20405; telephone number: 202-501-0855; fax number: 202-501-4281; e-mail address: jonathan.rubin@gsa.gov.

SUPPLEMENTARY INFORMATION:

What Information Is GSA Particularly Interested In?

Pursuant to section 3506(c)(2)(A) of the PRA, GSA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

What Should I Consider When I Prepare My Comments for GSA?

You may find the following suggestions helpful for preparing your comments.

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by GSA, be sure to identify the ICR title on the first page of your response. You may also provide the Federal Register citation.

What Information Collection Activity or ICR Does This Apply To?

Title: Open Government Citizen Engagement Ratings, Rankings, and Flagging.

OMB Control Number: 3090-0288.

Abstract: This information collection request for a clearance for a replacement of the emergency ICR approved by OMB. [It is being submitted in order to fulfill the public feedback aspects of this important initiative. Visitors will be provided opportunities to provide feedback and ratings in the spirit of the President's open government and transparency initiative. Examples of feedback mechanisms are:

(1) An “agree/disagree”, “vote up/vote down” or other rating system to give visitors information about which posts other visitors found most useful and interesting.

(2) A “Contact Us” entry page with an optional contact e-mail address for those visitors wishing to identify themselves.

Burden Statement: The annual public reporting and recordkeeping burden for this collection of information is estimated to average up to 1,666 hours per year. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.]

The estimated annual burden request is summarized here:

Estimated total number of potential respondents: 12,000,000.

Estimated total number of potential responses: 1,200,000.

Frequency of response: Occasionally.

Estimated total annual burden hours: 1,666 hours.

Estimated total annual costs: No cost to the public; no additional government resources.

What Is the Next Step in the Process for This ICR?

GSA will consider the comments received and amend the ICR as appropriate. The final ICR package will then be submitted to OMB for review and approval pursuant to 5 CFR 1320.12. At that time, GSA will issue another Federal Register notice pursuant to 5 CFR 1320.5(a)(1)(iv) to announce the submission of the ICR to OMB and the opportunity to submit additional comments to OMB. If you have any questions about this ICR or the approval process, please contact the person listed under FOR FURTHER INFORMATION CONTACT.

Dated: March 26, 2010.
Casey Colemen,
Chief Information Officer.

[FR Doc. 2010-7306 Filed 3-31-10; 8:45 am]

BILLING CODE 6820-34-P